DEPARTMENT OF COMMERCE

National Oceanic and Atmospheric Administration

Science Advisory Board (SAB); Notice of Open Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Thursday, April 5, 2012 from 9 a.m. to 5:15 p.m. and Friday, April 6, 2012, from 9:15 a.m. to 2:30 p.m. These times and the agenda topics described below are subject to change. Please refer to the Web page http://www.sab.noaa.gov/Meetings/meetings.html for the most up-to-date meeting agenda.

Place: The meeting will be held at the Washington Plaza Hotel, 10 Thomas Circle, Washington, DC 20005 Please check the SAB Web site http://www.sab.noaa.gov for directions to the meeting location.

Status: The meeting will be open to public participation with a 15 minute public comment period on April 5 at 5 p.m. (check Web site to confirm time). The SAB expects that public statements presented at its meetings will not be repetitive of previously submitted verbal or written statements. In general, each individual or group making a verbal presentation will be limited to a total time of five (5) minutes. Individuals or groups planning to make a verbal presentation should contact the SAB Executive Director by March 29, 2012 to schedule their presentation. Written comments should be received in the SAB Executive Director's Office by March 29, 2012 to provide sufficient time for SAB review. Written comments received by the SAB Executive Director after March 29, 2012 will be distributed to the SAB, but may not be reviewed prior to the meeting date. Seating at the meeting will be available on a first-come, first-served basis.

Special Accommodations: These meetings are physically accessible to people with disabilities. Requests for special accommodations may be directed no later than 12 p.m. on March 29, 2012, to Dr. Cynthia Decker, SAB Executive Director, SSMC3, Room 11230, 1315 East-West Hwy., Silver Spring, MD 20910.

Matters To Be Considered: The meeting will include the following topics: (1) Update from the SAB Research and Development Portfolio Review Task Force; (2) External Review of the Cooperative Institute for Climate Science (CICS), Princeton University; (3) Proposed New Members for the Data Archive and Access Requirements Working Group (DAARWG); (4) Update from the SAB Satellite Task Force; (5) NOAA Response to the SAB Report on Fisheries Enterprise Data Management; (6) NOAA Response to Congress on Compensation Policy for Specialized Satellite Data Products and Services; (7) NOAA Report on Needs Assessment for Science Advisory Board Working Groups; (8) Use of the NOAA Logo by Affiliated Partners; and (9) Updates from SAB Working Groups.

FOR FURTHER INFORMATION CONTACT: Dr. Cynthia Decker, Executive Director, Science Advisory Board, NOAA, Rm. 11230, 1315 East-West Highway, Silver Spring, Maryland 20910. Phone: 301-734-1156, Fax: 301-713-1459, Email: Cynthia.Decker@noaa.gov; or visit the NOAA SAB Web site at http://www.sab.noaa.gov.

Dated: March 12, 2012.
Mark E. Brown,
Chief Financial Officer\Chief Administrative Officer, Office of Oceanic and Atmospheric Research, National Oceanic and Atmospheric Administration.

[FR Doc. 2012-6485 Filed 3-16-12; 8:45 am]

BILLING CODE 3510-KD-P